DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Village of Elmwood Park, Illinois

[Waiver Petition Docket Number FRA-2007-0022]

The Village of Elmwood Park, Illinois (Village) and the Northeastern Illinois Commuter Rail Corporation (Metra) seek a permanent waiver of compliance from a certain provision of the Use of Locomotive Horns at Highway-Rail Grade Crossings, 49 CFR Part 222. The Village intends to establish a new partial quiet zone consisting of four public highway-rail at-grade crossings and two pedestrian at-grade crossings. The Village and Metra are seeking a waiver to modify the hours of a new partial quiet zone as provided in 49 CFR Part 222.9, definition of a new partial quiet zone that states that locomotive horns are not routinely sounded between the hours of 10 p.m. and 7 a.m. The waiver petition requests that the time period for the new partial quiet zone is between 10 p.m. and 6 a.m. as recommended by the Illinois Commerce Commission (ICC) to better reflect the existing traffic conditions. The ICC made these comments during a diagnostic team meeting on September 5, 2007, and in a letter to the Village dated September 11, 2007.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-0022) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-19478).

Issued in Washington, DC on January 28, 2008.
Grady C. Cothen, Jr.,
Deputy Associate Administrator for Safety Standards and Program Development.

[FR Doc. E8-1866 Filed 1-31-08; 8:45 am]

BILLING CODE 4910-06-P